DEPARTMENT OF TRANSPORTATION

Federal Aviation Administration

14 CFR Part 39

[Docket No. FAA-2024-0035; Project Identifier MCAI-2023-00986-A; Amendment 39-22728; AD 2024-07-07]

RIN 2120-AA64

Airworthiness Directives; GA 8 Airvan (Pty) Ltd Airplanes

AGENCY: Federal Aviation Administration (FAA), DOT.

ACTION: Final rule.

SUMMARY: The FAA is superseding Airworthiness Directive (AD) 2010-18-06, which applied to all GA8 Airvan (Pty) Ltd Model GA8 and GA8-TC320 airplanes. AD 2010-18-06 required inspections and a minor design change to the forward slide of the cargo door with corrective action as necessary. Since the FAA issued AD 2010-18-06, the Civil Aviation Safety Authority (CASA), which is the aviation authority for Australia, superseded the previous CASA Australia AD to incorporate more detailed inspections and additional modifications as specified in updated service information published by the manufacturer. This AD was prompted by reports of in-flight cargo door separation. This AD requires inspections and rework (modifications) of the cargo door with corrective action as necessary. The FAA is issuing this AD to address the unsafe condition on these products.

DATES: This AD is effective June 3, 2024.

The Director of the Federal Register approved the incorporation by reference of a certain publication listed in this AD as of June 3, 2024.

ADDRESSES:

AD Docket: You may examine the AD docket at regulations.gov under Docket No. FAA-2024-0035; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For service information contact GA8 Airvan (Pty) Ltd, PO Box 881, Morwell, Victoria 3840, Australia; phone: +61 03 5172 1200; website: gippsaero.com.au; email: TECHPUBS@gippsaero.com.au.

• You may view this service information at the FAA, Airworthiness Products Section, Operational Safety Branch, 901 Locust, Kansas City, MO 64106. For information on the availability of this material at the FAA call (817) 222-5110. It is also available at regulations.gov under Docket No. FAA-2024-0035.

FOR FURTHER INFORMATION CONTACT: Doug Rudolph, Aviation Safety Engineer, FAA, 1600 Stewart Avenue, Suite 410, Westbury, NY 11590; phone: (816) 329-4059; email: doug.rudolph@faa.gov.

SUPPLEMENTARY INFORMATION:

Background

The FAA issued a notice of proposed rulemaking (NPRM) to amend 14 CFR part 39 to supersede AD 2010-18-06, Amendment 39-16419 (75 FR 52253, August 25, 2010) (AD 2010-18-06). AD 2010-18-06 applied to all GA8 Airvan (Pty) Ltd Model GA8 and GA8-TC320 airplanes. AD 2010-18-06 was prompted by MCAI originated by CASA, which is the aviation authority for Australia. CASA Australia issued CASA Australia AD AD/GA8/3 Amdt 2, dated August 11, 2010 (CASA Australia AD/GA8/3 Amdt 2) to correct an unsafe condition identified as excessive wear in the forward cargo door slide, which could result in an in-flight separation of the cargo door, with possible loss of control of the airplane. CASA Australia AD AD/GA8/3 Amdt 2 was issued to require the actions in service information updated by the manufacturer to remove any ambiguities in the previous revision and provide an improved inspection method and a minor design change to the forward slide of the cargo door (inclusion of a slide backing plate, castellated nut, and split pin).

AD 2010-18-06 required doing all of Action 1 (measuring the groove width of the forward cargo door slide and if it exceeds 0.145 inch at any point along the slide, or is cracked, installing a new slider assembly) and Action 2 (inspecting wear of the forward slide of the cargo door and doing applicable corrective action steps specified in Action 1) of GippsAero Pty. Ltd. Mandatory Service Bulletin SB-GA8-2005-23, Issue 3, dated August 5, 2010. The FAA issued AD 2010-18-06 to address excessive wear in the forward cargo door slide.

The NPRM published in the Federal Register on January 23, 2024 (89 FR 4211). The NPRM was prompted by CASA Australia AD AD/GA8/3 amdt 3, dated August 18, 2023 (also referred to as the MCAI). The MCAI states that inspections revealed cases of excessive wear in the forward slide of the cargo door. Excessive wear in the forward slide of the cargo door may result in the cargo door separating from the airplane in flight with potentially catastrophic results. The MCAI requires accomplishing the actions specified in GippsAero Service Bulletin SB-GA8-2005-23, Issue 7, dated May 30, 2023 (GippsAero Service Bulletin SB-GA8-2005-23, Issue 7). This service bulletin includes procedures for revised inspections of the door mechanism, installing a stop on the forward slide of the cargo door and reworking the door slide to suit (accommodate) the track stop installation. Depending on the findings of the inspections, additional actions might be necessary including reworking the door mechanism pivot, upgrading the door operating rod, or fitting a door handle with an integral stop.

The FAA is issuing this AD to address excessive wear in the forward slide of the cargo door. The unsafe condition, if not addressed, could result in the cargo door separating from the airplane during flight, with potential loss of control of the airplane.

You may examine the MCAI in the AD docket at regulations.gov under Docket No. FAA-2024-0035.

Discussion of Final Airworthiness Directive

Comments

The FAA received no comments on the NPRM or on the determination of the costs.

Conclusion

These products have been approved by the aviation authority of another country and are approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on these products. This AD is adopted as proposed in the NPRM.

Related Service Information Under 1 CFR Part 51

The FAA reviewed GippsAero Service Bulletin SB-GA8-2005-23, Issue 8, dated October 11, 2023 (GippsAero SB-GA8-2005-23, Issue 8). This service information specifies procedures for installing a backing plate on the forward slide of the cargo door; inspecting the forward slide of the cargo door for excessive wear; inspecting the cargo door latching mechanism for contact between the operating rod and door handle pivot post, inspecting the threaded studs and rod ends at both ends of the operating rod for bending, and checking the cargo door handle engagement with the catch; reworking the cargo door handle pivot post; reworking the door operating rod; inspecting the door handle to determine if an integrated stop is installed and checking for excessive play; and inspecting the center rail of the cargo door to determine if an aft stop is installed, installing an aft stop, and reworking the center rail of the cargo door to accommodate the track stop.

This service information is reasonably available because the interested parties have access to it through their normal course of business or by the means identified in ADDRESSES.

Differences Between This AD and the MCAI[

The MCAI applicability is Gippsland Aeronautics Model GA8 Series airplanes, all serial numbers. The applicability in this AD is GA8 Airvan (Pty) Ltd Model GA8 and GA8-TC320 airplanes because the FAA type certificate specifies GA8 Airvan (Pty) Ltd instead of Gippsland Aeronautics and specifies Model GA8 and GA8-TC320 airplanes instead of Model GA8 Series airplanes.

The MCAI requires doing the actions in Gippsland Aeronautics mandatory service bulletin SB-GA8-2005-23 Issue 7, dated May 30, 2023. This AD requires doing the actions in GippsAero SB-GA8-2005-23, Issue 8. After the MCAI was published, the manufacturer issued GippsAero SB-GA8-2005-23, Issue 8, which was revised to provide clarification regarding the actions and compliance schedule. The title page of GippsAero SB-GA8-2005-23, Issue 8, specifies GippsAero instead of Gippsland Aeronautics.

Costs of Compliance

The FAA estimates that this AD affects 61 airplanes of U.S. registry.

The FAA estimates the following costs to comply with this AD. The corresponding letter and number in parenthesis refer to the specific paragraph in GippsAero SB-GA8-2005-23, Issue 8.

Estimated Costs
Action | Labor cost | Parts cost | Cost per product | Cost on U.S. operators
Installing forward cargo door slide backing plate (A1) | 0.50 work-hour × $85 per hour = $42.50 | $175 | $217.50 | $13,267.50.
Inspecting forward cargo door slide wear (A2) | 0.25 work-hour × $85 per hour = $21.25 per inspection cycle | 0 | $21.25 per inspection cycle | $1,296.25 per inspection cycle.
Inspecting cargo door latching mechanism (B1) | 1 work-hour × $85 per hour = $85 per inspection cycle | 0 | $85 per inspection cycle | $5,185 per inspection cycle.
Inspecting cargo door handle and inspecting for excessive play (C) | 0.75 work-hour × $85 per hour = $63.75 | 0 | $63.75 | $3,88.75.
Inspecting cargo door center rail (D1) | 1 work-hour × $85 per hour = $85 | 0 | $85 | $5,185.

The FAA estimates the following costs to do any necessary actions that would be required based on the results of the inspections. The agency has no way of determining the number of airplanes that might need these actions. The corresponding letter and number in parenthesis refer to the specific paragraph in GippsAero SB-GA8-2005-23, Issue 8.

On-Condition Costs
Action | Labor cost | Parts cost | Cost per product
Inspecting/replacing forward cargo door slide (A1, Steps 2 through 4), corrective action for (A2) | 0.50 work-hour × $85 per hour = $42.50 | $175 | $217.50.
Reworking cargo door pivot (B2) and reworking/replacing door operating rod assembly (B3) | 2 work-hours × $85 per hour = $170 | 630 | 800.
Replacing door handle/handle bush (C) | 1 work-hour × $85 per hour = $85 | 267 | 352.
Replacing cargo door center rail/slide-center and backing plate (D1) and reworking cargo door center rail and backing plate (D2) | 2 work-hours × $85 per hour = $170 | 152 | 322.

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2010-18-06, Amendment 39-16419 (75 FR 52253, August 25, 2010); and

b. Adding the following new airworthiness directive:

2024-07-07 GA 8 Airvan (Pty) Ltd: Amendment 39-22728; Docket No. FAA-2024-0035; Project Identifier MCAI-2023-00986-A.

(a) Effective Date

This airworthiness directive (AD) is effective June 3, 2024.

(b) Affected ADs

This AD replaces AD 2010-18-06, Amendment 39-16419 (75 FR 52253, August 25, 2010).

(c) Applicability

This AD applies to GA 8 Airvan (Pty) Ltd Model GA8 and GA8-TC320 airplanes, all serial numbers, certificated in any category.

(d) Subject

Joint Aircraft System Component (JASC) Code 5230, Cargo/Baggage Doors

(e) Unsafe Condition

This AD was prompted by reports of in-flight cargo door separation. The FAA is issuing this AD to detect and correct excessive wear in the forward cargo door slide, which could result in an in-flight separation of the cargo door, with possible loss of control of the airplane.

(f) Compliance

Comply with this AD within the compliance times specified, unless already done.

(g) Required Actions

Do the applicable actions specified in Table 1 to paragraph (g) of this AD at the times in Table 1 to paragraph (g) of this AD, in accordance with the Accomplishment Instructions of GippsAero Service Bulletin SB-GA8-2005-23, Issue 8, dated October 11, 2023 (GippsAero SB-GA8-2005-23, Issue 8).

Table 1 to Paragraph (g)
Paragraphs in Accomplishment Instructions of GippsAero SB-GA8-2005-23, Issue 8 | Action | Compliance time
12.1, A1, steps 1 and 2, for backing plate inspection, except where Figure 1 in step 1 specifies to remove and discard the vertical bolt, remove the vertical bolt from service Steps 3 through 7, if a backing plate is not installed | Inspect for the existence of a backing plate on the forward slide of the cargo door. If a backing plate is not installed, install a backing plate on the forward slide of the cargo door, measure the groove width of the forward slide, and replace the slide if it exceeds 0.145 inch at any point or is cracked or worn beyond limits | Inspect within 50 hours time-in-service (TIS) or 2 months after the effective date of this AD, whichever occurs first. Install, measure, and replace before further flight after the inspection.
12.2, A2, steps 1 and 2 for the inspection 12.2, A2, step 3 or 4, and 12.1, A1, steps 2 through 4, for the follow-on inspection and replacement | Inspect for wear of the forward slide of the cargo door by inserting a slide gauge or feeler gauge to measure the clearance between the forward slide and the cargo door track. If a gap is found, measure the groove width of the forward slide and replace the slide if the groove width exceeds 0.145 inch at any point or is cracked or worn beyond limits | Inspect for wear within 100 hours TIS or 2 months after the effective date of this AD, whichever occurs first, and thereafter at intervals not to exceed 100 hours TIS or 12 months, whichever occurs first after the most recent inspection. Measure the groove width and replace the slide before further flight after each inspection as necessary.
12.3, B1, steps 1 through 6 for the inspections 12.3, B1, steps 2, 3i, and 3ii; 12.4, B2, steps 1 through 5; and 12.5, B3, steps 1 through 12 for the corrective actions | Inspect the cargo door mechanism for contact between the operating rod and cargo door handle pivot post, inspect the threaded studs and rod ends at both ends of the operating rod for bending, and inspect the cargo door handle engagement with the catch. Perform all applicable corrective actions | Inspect within 50 hours TIS or 2 months after the effective date of this AD, whichever occurs first and thereafter at intervals not to exceed 100 hours TIS or 12 months, whichever occurs first after the most recent inspection. Perform all applicable corrective actions before further flight.
12.6, C, steps 1 through 6 | Inspect the cargo door handle to determine if an integrated stop is installed and if an integrated stop is not installed, install a cargo door handle with an integrated stop. Inspect the cargo door handle for beyond normal play and replace the handle bush if the door handle has beyond normal play | Within 150 hours TIS or 4 months after the effective date of this AD, whichever occurs first. Perform the installation and replacement, as necessary, before further flight after the inspection.
12.7, D1, steps 1 through 10 for the center rail cargo door inspection and installation 12.8, D2, steps 1 through 2, for any necessary follow-on rework | Inspect the center rail of the cargo door to determine if a center rail aft stop is installed and if a center rail aft stop is not installed, install an aft stop before further flight | Within 50 hours TIS or 2 months after the effective date of this AD, whichever occurs first.

(h) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, mail it to the address identified in paragraph (i)(2) of this AD or email to: 9-AVS-AIR-730-AMOC@faa.gov. If mailing information, also submit information by email. Before using any approved AMOC, notify your appropriate principal inspector, or lacking a principal inspector, the manager of the local Flight Standards District Office/certificate holding district office.

(i) Additional Information

(1) Refer to Civil Aviation Safety Authority (CASA) Australia AD AD/GA8/3 amdt 3, dated August 18, 2023, for related information. This CASA Australia AD may be found in the AD docket at regulations.gov under Docket No. FAA-2024-0035.

(2) For more information about this AD, contact Doug Rudolph, Aviation Safety Engineer, FAA, 1600 Stewart Avenue, Suite 410, Westbury, NY 11590; phone: (816) 329-4059; email: doug.rudolph@faa.gov.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) GippsAero Service Bulletin SB-GA8-2005-23, Issue 8, dated October 11, 2023.

(ii) [Reserved]

(3) For service information contact GA8 Airvan (Pty) Ltd, PO Box 881, Morwell, Victoria 3840, Australia; phone: +61 03 5172 1200; website: gippsaero.com.au; email: TECHPUBS@gippsaero.com.au.

(4) You may view this service information at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locationsoremailfr.inspection@nara.gov.

Issued on March 29, 2024.
Victor Wicklund,
Deputy Director, Compliance & Airworthiness Division, Aircraft Certification Service.

[FR Doc. 2024-09087 Filed 4-26-24; 8:45 am]

BILLING CODE 4910-13-P